DEPARTMENT OF LABOR

Employment and Training Administration

Announcement Regarding a Change in Eligibility for Unemployment Insurance (UI) Claimants in Louisiana, Maine, New Jersey, West Virginia and the Virgin Islands in the Emergency Unemployment Compensation 2008 (EUC08) Program

AGENCY: Employment and Training Administration, Labor.

ACTION: Notice.

SUMMARY: The U.S. Department of Labor (Department) produces trigger notices indicating which states qualify for EUC08 benefits, and provides the beginning and ending dates of payable periods for each qualifying state. The trigger notices covering state eligibility for this program can be found at: http://ows.doleta.gov/unemploy/claims_arch.asp.

The following changes have occurred since the publication of the last notice regarding states' EUC08 trigger status:

• Louisiana has triggered “on” to Tier 2 of EUC08 effective July 14, 2013.

Based on data released by the Bureau of Labor Statistics on June 21, 2013, the three month average, seasonally adjusted total unemployment rate (TUR) in Louisiana was 6.5 percent, exceeding the 6.0 percent trigger rate threshold to trigger “on” to Tier 2 of EUC08. However, Louisiana was in a mandatory 13 week “off” period that started April 13, 2013, and did not conclude before July 13, 2013. As a result, Louisiana remained in an “off” period in Tier 2 of EUC08 through July 13, 2013, and triggered “on” to Tier 2 of EUC08 effective July 14, 2013. The week beginning July 14, 2013, was the first week in which EUC08 claimants in Louisiana who had exhausted Tier 1, and were otherwise eligible, could establish Tier 2 eligibility.

• Maine has triggered “off” Tier 3 of EUC08 effective July 13, 2013.

Based on data released by the Bureau of Labor Statistics on June 21, 2013, the three month average, seasonally adjusted TUR in Maine was 6.9 percent, falling below the 7.0 percent trigger rate threshold to remain “on” in Tier 3 of EUC08. The week ending July 13, 2013, was the last week in which EUC08 claimants in Maine who had exhausted Tier 2, and were otherwise eligible, could establish Tier 3 eligibility.

• New Jersey has triggered “off” Tier 4 of EUC08 effective July 13, 2013.

Based on data released by the Bureau of Labor Statistics on June 21, 2013, the three month average, seasonally adjusted TUR in New Jersey was 8.8 percent, falling below the 9.0 percent trigger rate threshold to remain “on” in Tier 4 of EUC08. The week ending July 13, 2013, was the last week in which EUC08 claimants in New Jersey who had exhausted Tier 3, and were otherwise eligible, could establish Tier 4 eligibility.

• The Virgin Islands has triggered “on” to Tier 2 and Tier 3 of EUC08 effective June 30, 2013.

Based on data released by the Bureau of Labor Statistics on June 7, 2013, the estimated three month average, seasonally adjusted total unemployment rate in the Virgin Islands was 7.6 percent, exceeding the 7.0 percent trigger rate threshold to trigger “on” in Tier 2 and Tier 3 of EUC08. However, the Virgin Islands was in a mandatory 13 week “off” period until June 29, 2013. The week beginning June 30, 2013, was the first week in which EUC08 claimants in the Virgin Islands who had exhausted Tier 1 or Tier 2, and were otherwise eligible, could establish Tier 2 or Tier 3 eligibility.

• West Virginia has triggered “off” Tier 3 of EUC08 effective July 13, 2013.

Based on data released by the Bureau of Labor Statistics on June 21, 2013, the three month average, seasonally adjusted total unemployment rate in West Virginia was 6.6 percent, falling below the 7.0 percent trigger rate threshold to remain “on” in Tier 3 of EUC08. The week ending July 13, 2013, was the last week in which EUC08 claimants in West Virginia who had exhausted Tier 2, and were otherwise eligible, could establish Tier 3 eligibility.

Information for Claimants

The duration of benefits payable in the EUC08 program, and the terms and conditions under which they are payable, are governed by public laws 110-252, 110-449, 111-5, 111-92, 111-118, 111-144, 111-157, 111-205, 111-312, 112-96, and 112-240, and the operating instructions issued to the states by the Department.

In the case of a state beginning or concluding a payable period in EUC08, the State Workforce Agency (SWA) will furnish a written notice of any change in potential entitlement to each individual who could establish, or had established, eligibility for benefits (20 CFR 615.13 (c)(1) and (c)(4)). Persons who believe they may be entitled to benefits in the EUC08 program, or who wish to inquire about their rights under this program, should contact their SWA.

FOR FURTHER INFORMATION CONTACT: Tony Sznoluch, U.S. Department of Labor, Employment and Training Administration, Office of Unemployment Insurance, 200 Constitution Avenue NW., Frances Perkins Bldg. Room S-4524, Washington, DC 20210, telephone number (202) 693-3176 (this is not a toll-free number) or by email: sznoluch.anatoli@dol.gov.

Signed in Washington, DC, this 5th day of August, 2013.
Eric M. Seleznow,
Acting Assistant Secretary for Employment and Training.

[FR Doc. 2013-20216 Filed 8-19-13; 8:45 am]

BILLING CODE 4510-FW-P